DEPARTMENT OF ENERGY

Federal Energy Regulatory Commission

[Docket No. ER02-648-003, et al.]

Sithe New Boston, LLC, et al.; Electric Rate and Corporate Filings

February 12, 2003.

The following filings have been made with the Commission. The filings are listed in ascending order within each docket classification.

1. Sithe New Boston, LLC

[Docket No. ER02-648-003]

Take notice that on February 10, 2003, Sithe New Boston, LLC filed a refund report in the above-captioned proceeding.

Comment Date: March 3, 2003.

2. New England Power Pool ISO New England Inc.

[Docket No. ER02-2330-009]

Take notice that on February 7, 2003, ISO New England Inc., submitted its notice in the above docket that the NEPOOL System Rules and computer programs necessary to implement New England's standard market design are fully in place and functional, a precondition to the effectiveness of the new markets, and that the ISO has advised the Commission that the current schedule calls for implementation of the new markets on March 1, 2003.

ISO New England, Inc., states that copies of said filing have been served upon NEPOOL Participants as well as upon the governors and utility regulatory agencies of the six New England States.

Comment Date: February 24, 2003.

3. Union Power Partners, L.P.

[Docket No. ER03-275-001]

Take notice that on February 10, 2003., Union Power Partners, L.P., (UPP) tendered for filing with the Federal Energy Regulatory Commission (Commission) an amendment to its filing submitted December 13, 2002 requesting to amend the Western Systems Power Pool (WSPP) Agreement to include UPP as a participant. UPP requests that the Commission allow the amendment to the WSPP Agreement to become effective on December 11, 2002.

UPP states that a copy of this filing has been served upon the WSPP Executive Committee Chair, WSPP Operating Committee Chair, WSPP General Counsel, and Arizona Public Service Company.

Comment Date: March 3, 2003.

4. Ameren Services Company

[Docket No. ER03-464-001]

Take notice that on February 7, 2003, Ameren Services Company (ASC) tendered for filing an unexecuted Service Agreement for Network Integration Transmission Service between ASC and Soyland Power Cooperative, Inc. ASC asserts that the purpose of the Agreement is to replace the unexecuted Agreement in Docket No. ER03-464-000 with a revised, unexecuted Agreement.

Comment Date: February 28, 2003.

5. Ohio Valley Electric Corporation

[Docket No. ER03-511-000]

Take notice that on February 10, 2003, Ohio Valley Electric Corporation (OVEC) tendered for filing a Notice of Cancellation of the Non-Firm Point-to-Point Transmission Service Agreement, dated as of October 23, 1996, between OVEC and Western Power Services, Inc. (WPS), designated as Service Agreement No. 2 under OVEC's FERC Electric Tariff, Original Volume No. 1. OVEC proposes an effective date of April 8, 2002.

OVEC states that a copy of this filing was served upon Western.

Comment Date: March 3, 2003.

6. CL Power Sales Six, L.L.C.

[Docket No. ER03-512-000]

Take notice that on February 10, 2003., CL Power Sales Six, L.L.C., tendered for filing a Notice of Cancellation of its authorization to engage in wholesale electric energy transactions at market-based rates, filed on August 7, 1996.

Comment Date: March 3, 2003.

7. Invenergy Energy Marketing LLC

[Docket No. ER03-513-000]

Take notice that on February 10, 2003., Invenergy Energy Marketing LLC (Invenergy) filed a Notice of Cancellation of its FERC Electric Tariff, Original Volume No. 1, with a proposed effective date of October 1, 2002. Invenergy states that it no longer engaged in the power marketing business, will not conduct power marketing activities in the future, and has no outstanding power sales contracts; accordingly, Invenergy states that no purchasers will be affected by the Notice of Cancellation.

Comment Date: March 3, 2003.

8. Duke Energy Marketing Corp.

[Docket No. ER03-514-000]

Take notice that, on February 10, 2003, Duke Energy Marketing Corp., tendered for filing a Notice of Cancellation pursuant to 18 CFR 35.15, in order to reflect the cancellation of its market-based rate tariff, designated as Rate Schedule FERC No. 1, Revision No. 1, originally accepted for filing in Docket No. ER96-109-000.

Comment Date: March 3, 2003.

9. Black Oak Capital, LLC

[Docket No. ER03-515-000]

Take notice that on February 10, 2003, Black Oak Capital, LLC (Black Oak) petitioned the Federal Energy Regulatory Commission (Commission) for acceptance of Rate Schedule FERC No. 1; the granting of certain blanket approvals, including the authority to sell electricity at market-based rates; and the waiver of certain Commission regulations.

Black Oak states that it intends to engage in wholesale electric power and energy purchases and sales as a marketer; is not in the business of generating or transmitting electric power; and, is an independent electricity marketer with a sole purpose of buying and selling electricity in the wholesale electricity market.

Comment Date: March 3, 2003.

10. Florida Keys Electric Cooperative Association, Inc.

[Docket No. ES03-24-000]

Take notice that on February 6, 2003, Florida Keys Electric Cooperative Association, Inc. (Florida Keys) submitted an application pursuant to section 204 of the Federal Power Act seeking authorization to make short-term borrowings in an amount not to exceed $8.7 million under agreements with CoBank, ACB and the National Rural Cooperative Finance Corporation.

Florida Keys also requests a waiver from the Commission's competitive bidding and negotiated placement requirements at 18 CFR 34.2.

Comment Date: March 5, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4114 Filed 2-19-03; 8:45 am]

BILLING CODE 6717-01-P